DEPARTMENT OF ENERGY

Federal Energy Regulatory Commission

Combined Notice of Filings

Take notice that the Commission has received the following Natural Gas Pipeline Rate and Refund Report filings:

Docket Numbers: RP21-607-000.

Applicants: Natural Gas Pipeline Company of America.

Description: § 4(d) Rate Filing: Negotiated Rate Agreement Filing—BP Energy Company to be effective 4/1/2021.

Filed Date: 3/5/21.

Accession Number: 20210305-5003.

Comments Due: 5 p.m. ET 3/17/21.

Docket Numbers: RP21-608-000.

Applicants: Natural Gas Pipeline Company of America.

Description: § 4(d) Rate Filing: Negotiated Rate Agreement Filing—Morgan Stanley Capital to be effective 4/1/2021.

Filed Date: 3/5/21.

Accession Number: 20210305-5004.

Comments Due: 5 p.m. ET 3/17/21.

Docket Numbers: RP21-609-000.

Applicants: Natural Gas Pipeline Company of America.

Description: § 4(d) Rate Filing: Negotiated Rate Agreements Filing—Wells Fargo Commodities to be effective 4/1/2021.

Filed Date: 3/5/21.

Accession Number: 20210305-5005.

Comments Due: 5 p.m. ET 3/17/21.

Docket Numbers: RP21-610-000.

Applicants: Adelphia Gateway, LLC.

Description: Penalty Revenue Crediting Report of Adelphia Gateway, LLC under RP21-610.

Filed Date: 3/8/21.

Accession Number: 20210308-5206.

Comments Due: 5 p.m. ET 3/22/21.

Docket Numbers: RP21-611-000.

Applicants: Enable Gas Transmission, LLC.

Description: Petition for Limited Waiver of Tariff Provision of Enable Gas Transmission, LLC under RP21-611.

Filed Date: 3/8/21.

Accession Number: 20210308-5233.

Comments Due: 5 p.m. ET 3/15/21.

Docket Numbers: RP13-459-000.

Applicants: Trailblazer Pipeline Company LLC.

Description: Report Filing: TPC 2021-03-09 2020 Penalty Revenues Refund Report.

Filed Date: 3/9/21.

Accession Number: 20210309-5098.

Comments Due: 5 p.m. ET 3/22/21.

Docket Numbers: RP21-555-001.

Applicants: Destin Pipeline Company, L.L.C.

Description: Tariff Amendment: Destin Pipeline Amended Negotiated Rate Filing to be effective 4/1/2021.

Filed Date: 3/9/21.

Accession Number: 20210309-5146.

Comments Due: 5 p.m. ET 3/22/21.

Docket Numbers: RP21-612-000.

Applicants: Vector Pipeline L.P.

Description: Vector Pipeline L.P. submits Annual Fuel Use Report for 2020 under RP21-612.

Filed Date: 3/9/21.

Accession Number: 20210309-5044.

Comments Due: 5 p.m. ET 3/22/21.

Docket Numbers: RP21-613-000.

Applicants: Midcontinent Express Pipeline LLC.

Description: Compliance filing Annual Report of Operational Purchases and Sales 2021.

Filed Date: 3/9/21.

Accession Number: 20210309-5045.

Comments Due: 5 p.m. ET 3/22/21.

Docket Numbers: RP21-614-000.

Applicants: Devon Energy Production Company, L.P., Denbury Onshore, LLC.

Description: Petition For Limited Waiver, et al. of Devon Energy Production Company, L.P., et al. under RP21-614.

Filed Date: 3/9/21.

Accession Number: 20210309-5105.

Comments Due: 5 p.m. ET 3/16/21.

Docket Numbers: RP21-615-000.

Applicants: Enable Gas Transmission, LLC.

Description: § 4(d) Rate Filing: Negotiated Rate Filing—March 9, 2021 GEP to be effective 3/9/2021.

Filed Date: 3/9/21.

Accession Number: 20210309-5139.

Comments Due: 5 p.m. ET 3/22/21.

Docket Numbers: RP21-616-000.

Applicants: Panhandle Eastern Pipe Line Company, LP.

Description: Request for Limited Waiver Determination of Panhandle Eastern Pipe Line Company, LP under RP21-616.

Filed Date: 3/9/21.

Accession Number: 20210309-5175.

Comments Due: 5 p.m. ET 3/16/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 10, 2021.
Kimberly D. Bose,
Secretary.

[FR Doc. 2021-05387 Filed 3-15-21; 8:45 am]

BILLING CODE 6717-01-P